DEPARTMENT OF HEALTH AND HUMAN SERVICES

Food and Drug Administration

Food and Drug Administration Report on the Occurrence of Foodborne Illness Risk Factors Within Selected Institutional Foodservice, Restaurant, and Retail Food Store Facility Types (2004); Availability

AGENCY: Food and Drug Administration, HHS.

ACTION: Notice.

SUMMARY: The Food and Drug Administration (FDA) is announcing the availability of a report entitled “FDA Report on the Occurrence of Foodborne Illness Risk Factors Within Selected Institutional Foodservice, Restaurant, and Retail Food Store Facility Types (2004)” (the 2004 Report). The 2004 Report summarizes results from a data collection conducted in 2003 on risk factors which have been identified as contributing to foodborne illness in institutional foodservice establishments, restaurants, and retail food stores: food from unsafe sources; inadequate cooking; improper holding temperature; contaminated equipment; and poor personal hygiene.

DATES: Limited paper copies of the 2004 Report will be available beginning September 30, 2004.

ADDRESSES: Submit written requests for single copies of the 2004 Report to Lakesha Abbey, Center for Food Safety and Applied Nutrition (HFS-625), Food and Drug Administration, 5100 Paint Branch Pkwy., College Park, MD 20740. Send one self-addressed adhesive label to assist that office in processing your request. See the SUPPLEMENTARY INFORMATION section for electronic access to the 2004 Report.

FOR FURTHER INFORMATION CONTACT: Lakesha Abbey, Center for Food Safety and Applied Nutrition (HFS-625), Food and Drug Administration, 5100 Paint Branch Pkwy., College Park, MD 20740, 301-436-2440, FAX: 301-436-2672, e-mail: Labbey@cfsan.fda.gov.

SUPPLEMENTARY INFORMATION:

I. Background

FDA is announcing the availability of the 2004 Report. The 2004 Report is the subject of a public meeting (via satellite downlink) which will be held on Wednesday, October 13, 2004, from 1 p.m. to 3 p.m., eastern standard time. Elsewhere in this issue of the Federal Register, FDA is announcing the satellite downlink public meeting. The 2004 Report summarizes results from a data collection conducted in 2003 on risk factors which have been identified as contributing to foodborne illness in institutional foodservice establishments, restaurants, and retail food stores; food from unsafe sources; inadequate cooking; improper holding temperature; contaminated equipment; and poor personal hygiene. A previous report presented data from a 1998 data collection on the same risk factors in institutional food-service establishments, restaurants, and retail food stores.

The two reports are FDA's response to a 1996 report entitled “Reinventing Food Regulations” issued under the National Performance Review, which concluded that foodborne illness caused by harmful bacteria and other pathogenic microorganisms in meat, poultry, seafood, dairy products, and a host of other foods is a significant public health problem in the United States. This 1996 report required Federal agencies to develop performance plans that included measurable goals and performance indicators which resulted in the study being reported.

In order to assess information associated with the occurrence of foodborne outbreaks and improve risk assessment capabilities, the level at which risky practices and behaviors occur had to be identified first. The 1998 data collection established a national baseline on the occurrence of foodborne disease risk factors within the retail segment of the food industry. The risk factors identified by the Centers for Disease Control and Prevention as contributing to foodborne illness that are being tracked are as follows: Food from unsafe sources, inadequate cooking, improper holding temperature, contaminated equipment, and poor personal hygiene.

The purpose of the 2004 Report is to present the second set of data from the 2003 data collection on risk factors in institutional foodservice establishments, restaurants, and retail food stores.

The 2004 Report is most useful when read and the data interpreted, as a separate stand alone report. As such, the 2004 report makes no attempt to draw comparisons between the results of the 1998 and 2003 data collections. Additional data are needed before any meaningful assessments of trends can be made for each of the facility types.

The results contained in the 2004 Report provide insight into the effectiveness of current industry management systems and food safety regulatory programs in controlling foodborne illness risk factors in retail and foodservice operations.

The data from the 1998 study, this project, and future studies planned for 2008 are expected to provide input into the Healthy People 2010's Food Safety Objective 10.6. This objective is designed to improve food preparation practices and food employee behaviors at institutional food-service establishments, restaurants, and retail food stores. Healthy People 2010 is a national health promotion and disease prevention initiative with the objective to improve the health of all Americans.

II. Electronic Access

The 2004 Report is available electronically on FDA's Web site at http://www.cfsan.fda.gov/~dms/retrsk2.html.

III. Satellite Downlink to Discuss the Report's Results

A satellite downlink public meeting will be held October 13, 2004, from 1 p.m. to 3 p.m., eastern standard time to discuss results in the report. The satellite broadcast can be received at any place that has access to a steerable C-band satellite dish. Satellite coordinates with instructions on how to downlink will be posted on FDA's Web site at http://www.fda.gov/cdrh/ocer/dcm/html/program_calendar.html beginning September 15, 2004.

Dated: September 16, 2004.
Jeffrey Shuren,
Assistant Commissioner for Policy.

[FR Doc. 04-21315 Filed 9-17-04; 4:06 pm]

BILLING CODE 4160-01-S